DEPARTMENT OF HOUSING AND URBAN DEVELOPMENT

[Docket No. FR-5719-N-01]

Notice of Submission of Proposed Information Collection to OMB; Federal Labor Standards Payee Verification and Payment Processing

AGENCY: Office of Labor Relations, HUD.

ACTION: Notice.

SUMMARY: The proposed information collection requirement described below will be submitted to the Office of Management and Budget (OMB) for review, as required by the Paperwork Reduction Act. HUD is soliciting public comments on the subject proposal. The information collected by HUD is used to issue refunds to depositors where labor standards discrepancies have been resolved, and to issue wage restitution payments on behalf of construction and maintenance workers who have been underpaid for work performed on HUD-assisted projects subject to prevailing wage requirements.

DATES: Comments Due Date: July 29, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Service (1-800-877-8339).

FOR FURTHER INFORMATION CONTACT: Saundra A. Green, Admin. Officer, Office of Labor Relations, Department of Housing and Urban Development, 451 7th Street SW., Washington, DC 20410, or Saundra.A.Green@hud.gov, telephone (202) 402-5537 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Federal Labor Standards Payee Verification and Payment Processing.

OMB Control Number, if applicable: 2501-0021.

Description of the need for the information and proposed use: The information collected by HUD is used to issue refunds to depositors where labor standards discrepancies have been resolved, and to issue wage restitution payments on behalf of construction and maintenance workers who have been underpaid for work performed on HUD-assisted projects subject to prevailing wage requirements.

Agency form numbers, if applicable: HUD-4734.

Estimation of the total numbers of hours needed to prepare the information collection including number of respondents, frequency of response, and hours of response: The number of burden hours is 5 hour per year. The number of respondents is 50, the number of responses is 50, the frequency of response is on occasion, and the burden hour per response is 5.

Status of the proposed information collection: This is a reinstatement, without change collection.

Authority: The Paperwork Reduction Act of 1995, 44 U.S.C., Chapter 35, as amended. Jacqueline Roundtree, Acting Director, Office of Labor Relations.

Dated: May 15, 2013.
Jacqueline W. Roundtree,
Departmental Operations Officer for the Office of Departmental Operations and Coordination.

[FR Doc. 2013-12603 Filed 5-24-13; 8:45 am]

BILLING CODE 4210-67-P